DEPARTMENT OF AGRICULTURE

Rural Utilities Service

7 CFR Part 1792

RIN 0572-AC01

Seismic Safety

AGENCY: Rural Utilities Service, USDA.

ACTION: Proposed rule.

SUMMARY: The Rural Utilities Service, an agency which administers the U.S. Department of Agriculture's Rural Development Utilities Programs (hereinafter “USDA Rural Development” or the “Agency,”) is amending its regulations to update the seismic safety requirements of the Agency. These amendments will provide Agency borrowers (including Rural Telephone Bank borrowers), grant recipients, and the public with updated rules for compliance with seismic safety requirements for new building construction using loan, grant, or guaranteed funds of the Agency, or funds provided through lien accommodations or subordinations approved by the Agency.

In the final rule section of this Federal Register, USDA Rural Development is publishing this action as a direct final rule without prior proposal because it views this as a non-controversial action and anticipates no adverse comments. If no adverse comments are received in response to the direct final rule, no further action will be taken on this proposed rule and the action will become effective at the time specified in the direct final rule. If USDA Rural Development receives adverse comments, a timely document will be published withdrawing the direct final rule and all public comments received will be addressed in a subsequent final rule based on this action.

DATES: Comments on this proposed action must be received by the agency via facsimile transmission or carry a postmark or equivalent no later than November 15, 2006.

ADDRESSES: Submit adverse comments or notice of intent to submit adverse comments by either of the following methods:

• Federal eRulemaking Portal: Go to http://www.regulations.gov and, in the lower “Search Regulations and Federal Actions” box, select “Rural Utilities Service” from the agency drop-down menu, then click on “Submit.” In the Docket ID column, select RUS-06-Agency-0049 to submit or view public comments and to view supporting and related materials available electronically. Information on using Regulations.gov, including instructions for accessing documents, submitting comments, and viewing the docket after the close of the comment period, is available through the site's “User Tips” link.

• Postal Mail/Commercial Delivery: Please send your comment addressed to Richard Annan, Director, Program Development and Regulatory Analysis, USDA Rural Development, 1400 Independence Avenue, STOP 1522, Room 5159, Washington, DC 20250-1522. Please state that your comment refers to Docket No. RUS-06-Agency-0049.

Other Information: Additional information about Rural Development and its programs is available on the Internet at http://www.rurdev.usda.gov/index.html.

FOR FURTHER INFORMATION CONTACT: Mr. Donald Heald, Structural Engineer, Transmission Branch, Electric Staff Division, USDA Rural Development, 1400 Independence Avenue, SW., STOP 1569, Washington, DC 20250-1569. Telephone: (202) 720-9102. Fax: (202) 720-7491.

SUPPLEMENTARY INFORMATION: See the Supplementary Information provided in the direct final rule located in the Rules and Regulations final rule section of this Federal Register for the applicable supplementary information on this action.

Dated: September 27, 2006.
James M. Andrew,
Administrator, Rural Utilities Service.

[FR Doc. E6-17063 Filed 10-13-06; 8:45 am]

BILLING CODE 3410-15-P